NATIONAL SCIENCE FOUNDATION

Notice of Permits Issued Under the Antarctic Conservation Act of 1978

AGENCY: National Science Foundation.

ACTION: Notice of permits issued.

SUMMARY: The National Science Foundation (NSF) is required to publish notice of permits issued under the Antarctic Conservation Act of 1978. This is the required notice.

FOR FURTHER INFORMATION CONTACT: Nature McGinn, ACA Permit Officer, Office of Polar Programs, National Science Foundation, 2415 Eisenhower Avenue, Alexandria, VA 22314; 703-292-8030; email: ACApermits@nsf.gov.

SUPPLEMENTARY INFORMATION: On September 18, 2019, the National Science Foundation published a notice in the Federal Register of permit applications received. The permits were issued on the following dates:

1. Leidos Innovations Corp., Permit No. 2020-004, November 8, 2019

2. John Kennedy, Permit No. 2020-006, November 9, 2019

3. Robin West, Permit No. 2020-009, November 9, 2019

On September 18, 2019, the National Science Foundation published a notice in the Federal Register of permit applications received. The permits were issued on the following dates:

1. Grant Ballard, Permit No. 2020-005, November 9, 2019

2. Peter West, Permit No. 2020-007, November 9, 2019

3. Robert Sanders, Permit No. 2020-008, November 9, 2019

On September 20, 2019, the National Science Foundation published a notice in the Federal Register of a permit application received. The permit was issued on the following date:

1. Orla Doherty, Permit No. 2020-012, November 4, 2019

On October 10, 2019, the National Science Foundation published a notice in the Federal Register of a permit application received. The permit was issued on the following date:

1. Lee Welhouse, Permit No. 2020-014, November 12, 2019

On October 22, 2019, the National Science Foundation published a notice in the Federal Register of a permit application received. The permit was issued on the following date:

1. Ari Friedlaender, Permit No. 2020-016, December 20, 2019

On November 12, 2019, the National Science Foundation published a notice in the Federal Register of permit applications received. The permits were issued on the following dates:

1. Heather J. Lynch, Permit No. 2020-010, December 20, 2019

2. Joseph A. Covi, Permit No. 2020-017, December 12, 2019

3. Zicheng Yu, Permit No. 2020-018, January 27, 2020

On November 19, 2019, the National Science Foundation published a notice in the Federal Register of permit applications received. The permits were issued on the following dates:

1. Heather J. Lynch, Permit No. 2020-011, December 20, 2019

2. Bob Simpson, Permit No. 2020-019, December 20, 2019

3. Lisa Bolton, Permit No. 2020-020, December 20, 2019

On December 3, 2019, the National Science Foundation published a notice in the Federal Register of permit applications received. The permits were issued on the following dates:

1. Nicholas Teets, Permit No. 2020-013, January 2, 2020

2. Daniel P. Zitterbart, Permit No. 2020-021, January 2, 2020

On December 5, 2019, the National Science Foundation published a notice in the Federal Register of permit applications received. The permits were issued on the following dates:

1. Chris Eckstrom, Permit No. 2020-022, January 8, 2020

2. David Lloyd, Permit No. 2020-024, January 9, 2020

On December 12, 2019, the National Science Foundation published a notice in the Federal Register of a permit application received. The permit was issued on the following date:

1. Red Rock Films, Permit No. 2020-023, January 13, 2020

On December 27, 2019, the National Science Foundation published a notice in the Federal Register of a permit application received. The permit was issued on the following date:

1. William Muntean, Permit No. 2020-025, January 27, 2020

On December 30, 2019, the National Science Foundation published a notice in the Federal Register of a permit application received. The permit was issued on the following date:

1. Brandon Savory, Permit No. 2020-026, January 30, 2020

Erika N. Davis,
Program Specialist, Office of Polar Programs.

[FR Doc. 2020-15883 Filed 7-21-20; 8:45 am]

BILLING CODE 7555-01-P